CORPORATION FOR NATIONAL AND COMMUNITY SERVICE

Renewal of a Currently Approved Information Collection; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Public Law 104-13, 44 U.S.C. Chapter 35). Copies of these individual ICRs, with applicable supporting documentation, may be obtained by calling the Corporation for National and Community Service, Wayne E. Verry, (202) 606-5000, extension 108. Individuals who use a telecommunications device for the deaf (TTY-TDD) may call (202) 565-2799 between 8:30 a.m. and 5 p.m. Eastern time, Monday through Friday.

Comments should be sent to the Office of Information and Regulatory Affairs, Attn: Brenda Aguilar, OMB Desk Officer for the Corporation for National and Community Service, Office of Management and Budget, Room 10235, Washington, DC 20503, (202) 395-6929, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Type of Review: Renewal.

Agency: Corporation for National and Community Service.

Title: AmeriCorps*NCCC Service Project Application.

OMB Number: 3045-0010.

Frequency: Annually.

Affected Public: Various non-profit organizations/project sponsors.

Number of Respondents: 900.

Estimated Time Per Respondent: 8 hours.

Total Burden Hours: 7200 hours.

Total Burden Cost (capital/startup): N/A.

Total Annual Cost (operating/maintaining systems or purchasing services): $120,000.

Description

The Corporation proposes to renew the AmeriCorps*NCCC Service Project Application in a revised form, which incorporates lessons learned since the program inception. The Form is the means by which various organizations can request NCCC members to assist in community service projects, and by which the NCCC evaluates such proposals for approval and selection.

Dated: October 6, 2000.
Fred L. Peters,
AmeriCorps*NCCC Acting National Director.

[FR Doc. 00-26335 Filed 10-12-00; 8:45 am]

BILLING CODE 6050-28-U